Executive Order 14374 of January 14, 2026

Establishing a Second Emergency Board To Investigate Disputes Between the Long Island Rail Road Company and Certain of Its Employees Represented by Certain Labor Organizations

Disputes exist between the Long Island Rail Road Company and certain of its employees represented by certain labor organizations. The labor organizations involved in these disputes are the Transportation Communications Union, the Brotherhood of Locomotive Engineers and Trainmen, the Brotherhood of Railroad Signalmen, the International Association of Machinists and Aerospace Workers, and the International Brotherhood of Electrical Workers.

The disputes have not heretofore been adjusted under the provisions of the Railway Labor Act, as amended, 45 U.S.C. 151-188 (RLA).

An emergency board to investigate and report on these disputes was established on September 18, 2025, by Executive Order 14349 of September 16, 2025 (Establishing an Emergency Board to Investigate Disputes Between the Long Island Rail Road Company and Certain of Its Employees Represented by Certain Labor Organizations). That emergency board terminated upon submission of its report to the President. Subsequently, its recommendations were not accepted by all of the parties.

A party empowered by the RLA has requested that the President establish a second emergency board pursuant to section 9A of the RLA (45 U.S.C. 159a).

Section 9A(e) of the RLA provides that the President, upon such request, shall appoint a second emergency board to investigate and report on the disputes.

NOW, THEREFORE, by the authority vested in me as President by the Constitution and the laws of the United States, including section 9A of the RLA, it is hereby ordered:

Section 1. Establishment of a Second Emergency Board (Board). There is established, effective 12:01 a.m. eastern standard time on January 16, 2026, a Board composed of a chair and two other members, all of whom shall be appointed by the President to investigate and report on these disputes. No member shall be pecuniarily or otherwise interested in any organization of railroad employees or any carrier. The Board shall perform its functions subject to the availability of funds.

Sec. 2. Report. As provided by section 9A(f) of the RLA, within 30 days after the creation of the Board, the parties to the disputes shall submit to the Board final offers for settlement of the disputes. As provided by section 9A(g) of the RLA, within 30 days after the submission of final offers for settlement of the disputes, the Board shall submit a report to the President setting forth the Board's selection of the most reasonable offer.

Sec. 3. Maintaining Conditions. As provided by section 9A(h) of the RLA, from the time a request to establish the Board is made until 60 days after the Board submits its report to the President, the parties to the controversy shall make no change in the conditions out of which the disputes arose except by agreement of the parties.

Sec. 4. Records Maintenance. The records and files of the Board are records of the Office of the President and upon the Board's termination shall be maintained in the physical custody of the National Mediation Board.

Sec. 5. Expiration. The Board shall terminate upon the submission of the report to the President provided for in section 2 of this order.

Sec. 6. Costs of Publication. The costs for publication of this order shall be borne by the Department of Transportation.

THE WHITE HOUSE,

January 14, 2026.

[FR Doc. 2026-01061

Filed 1-16-26; 11:15 am]

Billing code 4910-9X-P